DEPARTMENT OF ENERGY

Federal Energy Regulatory Commission

[Docket No. EL02-123-000]

Boston Edison Company; Notice of Initiation of Proceeding and Refund Effective Date

September 10, 2002.

Take notice that on August 22, 2002, the Commission issued an order in the above-referenced docket initiating an investigation under section 206 of the Federal Power Act.

The refund effective date in Docket No. EL02-123-000, established pursuant to section 206 (b) of the Federal Power Act, will be 60 days following publication of this notice in the Federal Register.

Linwood A. Watson, Jr.,
Deputy Secretary.

[FR Doc. 02-23460 Filed 9-13-02; 8:45 am]

BILLING CODE 6717-01-P